DEPARTMENT OF ENERGY

Federal Energy Regulatory Commission

[Docket No. RP02-333-000]

Northern Natural Gas Company; Notice of Proposed Changes in FERC Gas Tariff

May 7, 2002.

Take notice that Northern Natural Gas Company (Northern) on May 1, 2002 tendered for filing to become part of Northern's FERC Gas Tariff, Fifth Revised Volume No. 1 the following tariff sheets to be effective June 1, 2002:

Fifth Revised Volume No. 1

Sixty-First Revised Sheet No. 50

Sixty-Second Revised Sheet No. 51

Twenty-Eighth Revised Sheet No. 52

Fifty-Eighth Revised Sheet No. 53

Eleventh Revised Sheet No. 56

20 Revised Sheet No. 59

Fourth Revised Sheet No. 59A

23 Revised Sheet No. 60

Fourth Revised Sheet No. 60A

Original Volume No. 1

168 Revised Sheet No. 1C

Northern is filing to adjust its rates effective June 1 to reflect the rate impact of the return and tax components associated with the System Levelized Account (SLA) balance as of March 31, 2002.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11861 Filed 5-10-02; 8:45 am]

BILLING CODE 6717-01-P